DEPARTMENT OF AGRICULTURE

Agricultural Marketing Service

[Docket No. LS-06-04]

Request for an Extension of and Revision to a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for an extension for and revision to a currently approved information collection for Federal Seed Act Labeling and Enforcement.

DATES: Comments received by October 6, 2006 will be considered.

Additional Information or Comments: Contact Richard C. Payne, Chief, Seed Regulatory and Testing Branch, Livestock and Seed Program, Agricultural Marketing Service, U.S. Department of Agriculture, 801 Summit Crossing Place, Suite C, Gastonia, North Carolina 28054-2193; telephone (704) 810-8871, fax (704) 852-4109.

SUPPLEMENTARY INFORMATION:

Title: Federal Seed Act Program.

OMB Number: 0581-0026.

Expiration Date of Approval: May 31, 2007.

Type of Request: Extension and revision of currently approved information collection.

Abstract: This information collection and recordkeeping requirements are necessary to conduct the Federal Seed Act (FSA) (7 U.S.C. 1551, et seq.) program with respect to certain testing, labeling, and recordkeeping requirements of agricultural and vegetable seeds in interstate commerce. Regulations under the FSA appear at 7 CFR Part 201.

The FSA, Title II, is a truth-in-labeling law that regulates agricultural and vegetable planting seed in interstate commerce. Seed subject to the FSA must be labeled with certain quality information and it requires that information to be truthful. The FSA prohibits the interstate shipment of falsely advertised seed and seed containing noxious-weed seeds that are prohibited from sale in the State into which the seed is being shipped.

No unique forms are required for this information collection. The FSA requires seed in interstate commerce to be tested and labeled. Once in a State, seed must comply with the testing and labeling requirements of the State seed law. The same test and labeling required by the FSA nearly always satisfies the State's testing and labeling requirements. Also the receiving, sales, cleaning, testing, and labeling records required by the FSA, are records that the shipper would normally keep in good business practice.

The information obtained under this information collection is the minimum information necessary to effectively carry out the enforcement of the FSA. With the exception of the requirements for entering a new variety into a state seed certification program (set forth separately below), the information collection is entirely recordkeeping rather then reporting.

Seed Testing and Labeling

Estimate of Burden: Public reporting (recordkeeping) burden for this collection of information is estimated to average 14.38 hours per recordkeeper.

Respondents (Record keepers): Interstate shippers and labelers of seed.

Estimated Number of Respondents (Record keepers): 2,740.

Estimated Number of Responses per Respondent (Record keeper): Not Applicable.

Estimated Total Annual Burden on Respondents (Record keepers): 39,388 hours.

Eligibility for Certification of New Varieties

Estimate of Burden: Public reporting burden for this collection of information (eligibility for certification of new varieties) is estimated to average 1 hour per response.

Respondents: Entities seeking to enter new varieties into State seed certification programs.

Estimated Number of Respondents: 40.

Estimated Number of Responses per Respondent: 2.5.

Estimated Total Annual Burden on Respondents: 100 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Richard C. Payne, Chief, Seed Regulatory and Testing Branch, LS, AMS, USDA, 801 Summit Crossing Place, Suite C, Gastonia, North Carolina 28054-2193 or E-mail to richard.payne2@usda.gov. All comments received will be available for public inspection during regular business hours at the same address.

All responses to this notice will be summarized and included in the request for OMB approval. All comments will become a matter of public record.

Dated: August 1, 2006.
Lloyd C. Day,
Administrator, Agricultural Marketing Service.

[FR Doc. E6-12752 Filed 8-4-06; 8:45 am]

BILLING CODE 3410-02-P